ENVIRONMENTAL PROTECTION AGENCY

40 CFR Part 258

[EPA-HQ-RCRA-2015-0354; FRL-9990-49-OLEM]

Revisions to the Criteria for Municipal Solid Waste Landfills To Address Advances in Liquids Management; Extension of Comment Period

AGENCY: Environmental Protection Agency (EPA).

ACTION: Advance notice of proposed rulemaking; extension of comment period.

SUMMARY: The Environmental Protection Agency (EPA) issued an advance notice of proposed rulemaking (ANPRM) in the Federal Register on December 26, 2018, to solicit comment on potential revisions to the criteria for municipal solid waste landfills and associated issues related to advances in liquids management. This ANPRM, entitled “Revisions to the Criteria for Municipal Solid Waste Landfills to Address Advances in Liquids Management,” provided for a 90-day public comment period ending on March 26, 2019. The EPA received a number of requests from public interest groups for additional time to review the ANPRM and to develop and submit comments. This ANPRM extends the comment period for 45 days, from March 26, 2019, to May 10, 2019.

DATES: Comments must be received on or before May 10, 2019.

ADDRESSES: Submit your comments, identified by Docket ID No. EPA-HQ-RCRA-2015-0354; Title: Revisions to the Criteria for Municipal Solid Waste Landfills to Address Advances in Liquids Management at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud or other file sharing system). For additional submission methods, the full EPA public comment policy, information about CBI or multimedia submissions, and general guidance on making effective comments, please visit http://www.epa.gov/dockets/commenting-epa-dockets.

FOR FURTHER INFORMATION CONTACT: Craig Dufficy, Materials Recovery and Waste Management Division, Office of Resource Conservation and Recovery, Mail Code 5304P, U.S. Environmental Protection Agency, 1200 Pennsylvania Avenue, NW, Washington, DC 20460; telephone number: (703) 308-9037; email address: dufficy.craig@epa.gov.

SUPPLEMENTARY INFORMATION: The EPA is considering whether to propose revisions to the criteria for Municipal Solid Waste Landfills (MSWLFs) to support advances in effective liquids management. To this end, EPA is seeking information relating to: removing the prohibition on the addition of bulk liquids to MSWLFs; defining a particular class of MSWLF units (i.e., bioreactor landfill units) to operate with increased moisture content; and establishing revised MSWLF criteria to address additional technical considerations associated with liquids management, including waste stability, subsurface reactions, and other important safety and operational issues. This ANPRM also discusses the results of related research conducted to date, describes EPA's preliminary analysis of that research, and seeks additional scientific studies, data, and public input on issues that may inform a future proposed rule. The EPA is not reopening any existing regulations through this ANPRM.

The ANPRM was published on December 26, 2018, and the comment period was scheduled to end on March 26, 2019. See 83 FR 66210. Since publication of the ANPRM, several stakeholders have requested additional time to review the ANPRM and to develop and submit comments. Therefore, after considering these requests for additional time, the EPA has decided to extend the comment period until May 10, 2019.

List of Subjects in 40 CFR Part 258

Environmental protection, Reporting and recordkeeping requirements, Waste treatment and disposal, Water pollution and control.

Dated: February 21, 2019.
Barnes Johnson,
Director, Office of Resource Conservation and Recovery.

[FR Doc. 2019-04252 Filed 3-7-19; 8:45 am]

BILLING CODE 6560-50-P